CONSUMER PRODUCT SAFETY COMMISSION

16 CFR Ch. II

Semiannual Regulatory Agenda

AGENCY: U.S. Consumer Product Safety Commission.

ACTION: Semiannual regulatory agenda.

SUMMARY: In this document, the Commission publishes its semiannual regulatory flexibility agenda. In addition, this document includes an agenda of regulatory actions that the Commission expects to be under development or review by the agency during the next year. This document meets the requirements of the Regulatory Flexibility Act and Executive Order 12866.

DATES: The Commission welcomes comments on the agenda and on the individual agenda entries. Submit comments to the Division of the Secretariat on or before September 25, 2020.

ADDRESSES: Caption comments on the regulatory agenda, “Regulatory Flexibility Agenda.” You may submit comments by email to: cpsc-os@cpsc.gov. You may also submit comments by mail or delivery to the Division of the Secretariat, U.S. Consumer Product Safety Commission, Room 820, 4330 East West Highway, Bethesda, MD 20814-4408.

FOR FURTHER INFORMATION CONTACT: For further information on the agenda, in general, contact Meridith L. Kelsch, Office of the General Counsel, U.S. Consumer Product Safety Commission, 4330 East West Highway, Bethesda, MD 20814-4408, mkelsch@cpsc.gov. For further information regarding a particular item on the agenda, contact the person listed in the column titled, “Contact,” for that particular item.

SUPPLEMENTARY INFORMATION: The Regulatory Flexibility Act (RFA; 5 U.S.C. 601-612) contains several provisions intended to reduce unnecessary and disproportionate regulatory requirements on small businesses, small governmental organizations, and other small entities. Section 602 of the RFA requires each agency to publish, twice each year, a regulatory flexibility agenda containing “a brief description of the subject area of any rule which the agency expects to propose or promulgate which is likely to have a significant economic impact on a substantial number of small entities.” 5 U.S.C. 602. The agency must provide a summary of the nature of the rule, the objectives and legal basis for the rule, and an approximate schedule for acting on each rule for which the agency has issued a notice of proposed rulemaking. Id. In addition, the regulatory flexibility agenda must contain the name and telephone number of an agency official who is knowledgeable about the items listed. Id. Agencies must attempt to provide notice of their agendas to small entities and solicit their comments, by directly notifying them, or by including the agenda in publications that small entities are likely to obtain. Id.

In addition, Executive Order 12866, Regulatory Planning and Review (Sep. 30, 1993), requires each agency to publish, twice each year, a regulatory agenda of regulations under development or review during the next year. 58 FR 51735 (Oct. 4, 1993). The executive order states that agencies may combine this agenda with the regulatory flexibility agenda required under the RFA. The agenda required by Executive Order 12866 must include all of the regulatory activities the agency expects to be under development or review during the next 12 months, regardless of whether they may have a significant economic impact on a substantial number of small entities. This agenda also includes regulatory activities that the Commission listed in the fall 2019 agenda and has completed prior to publishing this agenda.

The agenda contains a brief description and summary of each regulatory activity, including the objectives and legal basis for each; an approximate schedule of target dates, subject to revision, for the development or completion of each activity; and the name and telephone number of an agency official who is knowledgeable about items in the agenda.

The internet is the basic means for disseminating the Unified Agenda. The complete Unified Agenda will be available online at: www.reginfo.gov, in a format that offers users the ability to obtain information from the Agenda database.

Because publication in the Federal Register is mandated for the regulatory flexibility agenda required by the RFA (5 U.S.C. 602), the Commission's printed Agenda entries include only:

(1) Rules that are in the agency's regulatory flexibility agenda, in accordance with the RFA, because they are likely to have a significant economic impact on a substantial number of small entities; and

(2) Rules that the agency has identified for periodic review under section 610 of the RFA.

Printing of these entries is limited to fields that contain information required by the RFA's agenda requirements. Additional information on these entries is available in the Unified Agenda published on the internet.

The agenda reflects an assessment of the likelihood that the specified event will occur during the next year; the precise dates for each rulemaking are uncertain. New information, changes of circumstances, or changes in the law, may alter anticipated timing. In addition, no final determination by staff or the Commission regarding the need for, or the substance of, any rule or regulation should be inferred from this agenda.

Alberta E. Mills,
Secretary, Consumer Product Safety Commission.

Consumer Product Safety Commission—Final Rule Stage
Sequence No. | Title | Regulation Identifier No.
283 | Regulatory Options for Table Saws | 3041-AC31
284 | Recreational Off-Road Vehicles | 3041-AC78

Consumer Product Safety Commission—Long-Term Actions
Sequence No. | Title | Regulation Identifier No.
285 | Flammability Standard for Upholstered Furniture | 3041-AB35
286 | Fireworks Devices | 3041-AC35
287 | Portable Generators | 3041-AC36

CONSUMER PRODUCT SAFETY COMMISSION (CPSC)

Final Rule Stage

283. Regulatory Options for Table Saws

E.O. 13771 Designation: Independent agency.

Legal Authority: 5 U.S.C. 553(e); 15 U.S.C. 2051

Abstract: In 2006, the Commission granted a petition asking that the Commission issue a rule to prescribe performance standards for an active injury mitigation system to reduce or prevent injuries from contacting the blade of a table saw. The Commission subsequently issued a notice of proposed rulemaking (NPRM) that would establish a performance standard requiring table saws to limit the depth of cut to 3.5 millimeters when a test probe, acting as a surrogate for a human body/finger, contacts the table saw's spinning blade. Staff has conducted several studies to provide information for the rulemaking. Staff is working on a final rule briefing package, which will be submitted to the Commission in FY 2020.

Timetable:

Action | Date | FR Cite
Commission Decision to Grant Petition | 07/11/06 |
ANPRM | 10/11/11 | 76 FR 62678
Notice of Extension of Time for Comments | 12/02/11 | 76 FR 75504
ANPRM Comment Period End | 12/12/11 |
Comment Period End | 02/10/12 |
Notice to Reopen Comment Period | 02/15/12 | 77 FR 8751
Reopened Comment Period End | 03/16/12 |
Staff Sent NPRM Briefing Package to Commission | 01/17/17 |
Commission Decision | 04/27/17 |
NPRM | 05/12/17 | 82 FR 22190
NPRM Comment Period End | 07/26/17 |
Public Hearing | 08/09/17 | 82 FR 31035
Staff Sent 2016 NEISS Table Saw Type Study Status Report to Commission | 08/15/17 |
Staff Sent 2017 NEISS Table Saw Special Study to Commission | 11/13/18 |
Notice of Availability of 2017 NEISS Table Saw Special Study | 12/04/18 | 83 FR 62561
Staff Sends a Status Briefing Package on Table Saws to Commission | 08/28/19 |
Commission Decision | 09/10/19 |
Staff Sends Final Rule Briefing Package to Commission | 09/00/20 |

Regulatory Flexibility Analysis Required: Yes.

Agency Contact: Caroleene Paul, Project Manager, Directorate for Engineering Sciences, Consumer Product Safety Commission, National Product Testing and Evaluation Center, 5 Research Place, Rockville, MD 20850, Phone: 301-987-2225, Email: cpaul@cpsc.gov.

RIN: 3041-AC31

284. Recreational Off-Road Vehicles

E.O. 13771 Designation: Independent agency.

Legal Authority: 15 U.S.C. 2056; 15 U.S.C. 2058

Abstract: The Commission is considering whether recreational off-road vehicles (ROVs) present an unreasonable risk of injury that should be regulated. Staff conducted testing and evaluation programs to develop performance requirements addressing vehicle stability, vehicle handling, and occupant protection. In 2014, the Commission issued an NPRM proposing standards addressing vehicle stability, vehicle handling, and occupant protection. Congress directed in fiscal year 2016, and reaffirmed in subsequent fiscal year appropriations, that none of the amounts made available by the Appropriations Bill may be used to finalize or implement the proposed Safety Standard for Recreational Off-Highway Vehicles until after the National Academy of Sciences completes a study to determine specific information as set forth in the Appropriations Bill. Staff ceased work on a Final Rule briefing package and instead engaged the Recreational Off-Highway Vehicle Association (ROHVA) and Outdoor Power Equipment Institute (OPEI) in the development of voluntary standards for ROVs. Staff conducted dynamic and static tests on ROVs, shared test results with ROHVA and OPEI, and participated in the development of revised voluntary standards to address staff's concerns with vehicle stability, vehicle handling, and occupant protection. The voluntary standards for ROVs were revised and published in 2016 (ANSI/ROHVA 1-2016 and ANSI/OPEI B71.9-2016). Staff assessed the new voluntary standard requirements and prepared a termination of rulemaking briefing package that was submitted to the Commission on November 22, 2016. The Commission voted not to terminate the rulemaking associated with ROVs. However, in the FY 2020 Operating Plan, the Commission directed staff to prepare a rulemaking termination briefing package.

Timetable:

Action | Date | FR Cite
Staff Sends ANPRM Briefing Package to Commission | 10/07/09 |
Commission Decision | 10/21/09 |
ANPRM | 10/28/09 | 74 FR 55495
ANPRM Comment Period Extended | 12/22/09 | 74 FR 67987
Extended Comment Period End | 03/15/10 |
Staff Sends NPRM Briefing Package to Commission | 09/24/14 |
Staff Sends Supplemental Information on ROVs to Commission | 10/17/14 |
Commission Decision | 10/29/14 |
NPRM Published in Federal Register | 11/19/14 | 79 FR 68964
NPRM Comment Period Extended | 01/23/15 | 80 FR 3535
Extended Comment Period End | 04/08/15 |
Staff Sends Briefing Package Assessing Voluntary Standards to Commission | 11/22/16 |
Commission Decision Not to Terminate | 01/25/17 |
Staff Sends Briefing Package to Commission | 09/00/20 |

Regulatory Flexibility Analysis Required: Yes.

Agency Contact: Caroleene Paul, Project Manager, Directorate for Engineering Sciences, Consumer Product Safety Commission, National Product Testing and Evaluation Center, 5 Research Place, Rockville, MD 20850, Phone: 301-987-2225, Email: cpaul@cpsc.gov.

RIN: 3041-AC78

CONSUMER PRODUCT SAFETY COMMISSION (CPSC)

Long-Term Actions

285. Flammability Standard for Upholstered Furniture

E.O. 13771 Designation: Independent agency.

Legal Authority: 15 U.S.C. 1193; 5 U.S.C. 801

Abstract: The Commission published a notice of proposed rulemaking (NPRM) to prescribe flammability standards for upholstered furniture under the Flammable Fabrics Act (FFA) to address the risk of fire associated with cigarette and small open-flame ignitions of upholstered furniture. The Commission's proposed rule would require that upholstered furniture have cigarette-resistant fabrics or cigarette and open flame-resistant barriers. The proposed rule would not require flame-resistant chemicals in fabrics or fillings. Since the Commission published the NPRM, CPSC staff has conducted testing of upholstered furniture, using both full-scale furniture and bench-scale models. In addition, staff has worked with the California Bureau of Household Goods and services (BHGS, formerly BEARHFTI), as well as voluntary standards development organizations, to improve upon and further refine the technical aspects of voluntary flammability requirements in upholstered furniture. Staff will continue to work with voluntary standards organizations.

Timetable:

Action | Date | FR Cite
ANPRM | 06/15/94 | 59 FR 30735
Commission Hearing May 5 & 6, 1998 on Possible Toxicity of Flame-Retardant Chemicals | 03/17/98 | 63 FR 13017
Meeting Notice | 03/20/02 | 67 FR 12916
Notice of Public Meeting | 08/27/03 | 68 FR 51564
Public Meeting | 09/24/03 |
ANPRM | 10/23/03 | 68 FR 60629
ANPRM Comment Period End | 12/22/03 |
Staff Held Public Meeting | 10/28/04 |
Staff Held Public Meeting | 05/18/05 |
Staff Sent Status Report to Commission | 01/31/06 |
Staff Sent Status Report to Commission | 11/03/06 |
Staff Sent Status Report to Commission | 12/28/06 |
Staff Sent Options Package to Commission | 12/22/07 |
Commission Decision to Direct Staff to Prepare Draft NPRM | 12/27/07 |
Staff Sent Draft NPRM to Commission | 01/22/08 |
Commission Decision to Publish NPRM | 02/01/08 |
NPRM | 03/04/08 | 73 FR 11702
NPRM Comment Period End | 05/19/08 |
Staff Published NIST Report on Standard Test Cigarettes | 05/19/09 |
Staff Publishes NIST Report on Standard Research Foam | 09/14/12 |
Notice of April 25 Public Meeting and Request for Comments | 03/20/13 | 78 FR 17140
Staff Holds Upholstered Furniture Fire Safety Technology Meeting | 04/25/13 |
Comment Period End | 07/01/13 |
Staff Sends Briefing Package to Commission on California's TB 117-2013 | 09/08/16 |
Staff Sends Options Package to the Commission | 09/25/19 |
Commission Decision | 10/04/19 |
Staff Works to Improve Voluntary Standards Related to Upholstered Furniture | To Be Determined

Regulatory Flexibility Analysis Required: Yes.

Agency Contact: Andrew Lock, Project Manager, Directorate for Laboratory Sciences, Consumer Product Safety Commission, National Product Testing and Evaluation Center, 5 Research Place, Rockville, MD 20850, Phone: 301 987-2099, Email: alock@cpsc.gov.

RIN: 3041-AB35

286. Fireworks Devices

E.O. 13771 Designation: Independent agency.

Legal Authority: 15 U.S.C. 1261

Abstract: In July 2016, the Commission issued an ANPRM, requesting comments on whether there was a need for the agency to update and strengthen its regulations on fireworks devices. In FY 2012, staff concentrated efforts on developing an updated test method to evaluate aerial firework break charge energy release, assess potential hazards to consumers associated with “adult snapper” fireworks, and propose appropriate solutions. Staff released status reports providing information regarding staff's fireworks research. In December 2015, staff prepared a rule review of the fireworks regulations. Subsequently, the Commission issued an NPRM, proposing several changes and additions to the fireworks regulations. The NPRM proposed requirements that fall into three categories: (1) New hazardous substance bans, (2) changes to ease the burdens associated with existing requirements, and (3) clarifications of existing requirements. CPSC received more than 2,400 written comments in response to the NPRM. Staff sent a final rule briefing package to the Commission in September 2018. In September 2019, the Commission voted to not approve staff's recommended final rule.

Timetable:

Action | Date | FR Cite
Staff Sent Draft ANPRM to Commission | 06/26/06 |
Commission Decision | 06/30/06 |
ANPRM | 07/12/06 | 71 FR 39249
ANPRM Comment Period End | 09/11/06 |
Staff Released a Fireworks Safety Standards Development Status Report | 01/31/13 |
Staff Released a Fireworks Safety Standards Development Status Report | 10/23/13 |
Staff Released Fireworks Safety Standards Development Status Report Draft | 11/24/14 |
Staff Sent Briefing Package to Commission with Rule Review Recommendations | 12/30/15 |
Staff Sent Draft NPRM to Commission | 12/14/16 |
Commission Decision | 01/25/17 |
NPRM | 02/02/17 | 82 FR 9012
Comment Period Extended | 04/18/17 | 82 FR 17947
Comment Period End | 07/17/17 |
Notice of Opportunity for Oral Presentation of Comments | 02/05/18 | 83 FR 5056
Staff Sent Final Rule Briefing Package to Commission | 09/26/18 |
Commission Decision | 09/24/19 |
Gather further information | 06/00/21 |

Regulatory Flexibility Analysis Required: Yes.

Agency Contact: Rodney Valliere Ph.D., Project Manager, Directorate for Laboratory Sciences, Consumer Product Safety Commission, National Product Testing and Evaluation Center, 5 Research Place, Rockville, MD 20850, Phone: 301-987-2526, Email: rvalliere@cpsc.gov.

RIN: 3041-AC35

287. Portable Generators

E.O. 13771 Designation: Independent agency.

Legal Authority: 15 U.S.C. 2051

Abstract: In 2006, the Commission issued an advance notice of proposed rulemaking (ANPRM) under the Consumer Product Safety Act (CPSA) concerning portable generators. The ANPRM discussed regulatory options that could reduce deaths and injuries related to portable generators, particularly those involving carbon monoxide (CO) poisoning. In FY 2006, staff awarded a contract to develop a prototype generator engine with reduced CO in the exhaust. Also, in FY 2006, staff entered into an interagency agreement (IAG) with the National Institute of Standards and Technology (NIST) to conduct tests with a generator, in both off-the-shelf and prototype configurations, operating in the garage attached to NIST's test house. In FY 2009, staff entered into a second IAG with NIST with the goal of developing CO emission performance requirements for a possible proposed regulation that would be based on health effects criteria. After additional staff and contractor work, the Commission issued a notice of proposed rulemaking (NPRM) proposing a performance standard that would limit the CO emissions from operating portable generators. In 2018, two voluntary standards adopted different CO mitigation requirements intended to address the CO poisoning hazard associated with portable generators. Staff is evaluating those voluntary standards. The Commission sought public comments on staff's plans to assess the effectiveness of the voluntary standards' requirements.

Timetable:

Action | Date | FR Cite
Staff Sent ANPRM to Commission | 07/06/06 |
Staff Sent Supplemental Material to Commission | 10/12/06 |
Commission Decision | 10/26/06 |
Staff Sent Draft ANPRM to Commission | 11/21/06 |
ANPRM | 12/12/06 | 71 FR 74472
ANPRM Comment Period End | 02/12/07 |
Staff Releases Research Report for Comment | 10/10/12 |
NPRM | 11/21/16 | 81 FR 83556
NPRM Comment Period Extended | 12/13/16 | 81 FR 89888
Public Hearing for Oral Comments | 03/08/17 | 82 FR 8907
NPRM Comment Period End | 04/24/17 |
Staff Sends Notice of Availability to the Commission | 06/26/19 |
Commission Decision | 07/02/19 |
Notice of Availability | 07/09/19 | 84 FR 32729
Staff is Evaluating the Voluntary Standards | 06/00/21 |

Regulatory Flexibility Analysis Required: Yes.

Agency Contact: Janet L. Buyer, Project Manager, Directorate for Engineering Sciences, Consumer Product Safety Commission, National Product Testing and Evaluation Center, 5 Research Place, Rockville, MD 20850, Phone: 301-987-2293, Email: jbuyer@cpsc.gov.

RIN: 3041-AC36

[FR Doc. 2020-16768 Filed 8-25-20; 8:45 am]

BILLING CODE 6355-01-P